UNITED STATES POSTAL SERVICE BOARD OF GOVERNORS

Sunshine Act Meeting

Dates and Times: Monday, September 24, 2007, at 9 a.m.; Tuesday, September 25, 2007, at 12:30 p.m.; and Wednesday, September 26, 2007, at 8:30 a.m.

Places: Potomac, Maryland, at the Bolger Center, 9600 Newbridge Drive; and Washington, DC, at U.S. Postal Service Headquarters, 475 L'Enfant Plaza, SW., in the Benjamin Franklin Room.

Status: September 24—9 a.m.-Closed; September 25—12:30 p.m.-Closed; September 26—8:30 a.m.-Open.

Matters to be Considered

Monday, September 24 at 9 a.m. (Closed) at Bolger Center

1. Strategic Issues.

2. Financial Update.

3. Fiscal Year 2008 Integrated Financial Plan Briefing.

4. Office of Inspector General Fiscal Year 2008 Budget.

5. Rate Case Update.

6. Labor Negotiations Update.

7. Personnel Matters and Compensation Issues.

8. Governors' Executive Session—Discussion of prior agenda items and Board Governance.

Tuesday, September 25 at 12:30 p.m. (Closed) at USPS Headquarters

1. Continuation of Monday's closed session agenda.

Wednesday, September 26 at 8:30 a.m. (Open) at USPS Headquarters

1. Minutes of Previous Meeting, August 7-8, 2007.

2. Remarks of the Chairman and Vice Chairman of the Board.

3. Remarks of the Postmaster General and CEO Jack Potter.

4. Committee Reports.

5. Board of Governors Calendar Year 2008 and 2009 Schedule.

6. Office of the Governors Fiscal Year 2008 Budget.

7. Postal Regulatory Commission Fiscal Year 2008 Budget.

8. Consideration of Fiscal Year 2008 Operating and Capital Plans—FY 2008 Integrated Financial Plan.

9. Tentative Fiscal Year 2009 Appropriation Request.

10. Capital Investments.

a. Perris, California, Delivery Distribution Center.

b. Miami, Florida, Mail Processing Facility.

11. Tentative Agenda for the November 14-15, 2007, meeting in Washington, DC.

Contact Person for More Information: Wendy A. Hocking, Esq., Secretary of the Board, U.S. Postal Service, 475 L'Enfant Plaza, SW., Washington, DC 20260-1000. Telephone (202) 268-4800.

Wendy A. Hocking,
Secretary.

[FR Doc. 07-4703 Filed 9-18-07; 4:28 pm]

BILLING CODE 7710-12-M